DEPARTMENT OF COMMERCE

International Trade Administration

[A-557-805]

Extruded Rubber Thread From Malaysia: Notice of Amended Final Results of Administrative Review in Accordance With Final Court Decision

AGENCY: Import Administration, International Trade Administration, Department of Commerce.

ACTION: Notice of amended final results of antidumping duty administrative review in accordance with final court decision on extruded rubber thread from Malaysia.

SUMMARY: On November 24, 1999, the U.S. Court of International Trade (“the Court”) affirmed the Department of Commerce's (“the Department's”) remand determination of the final results of the third (1994-1995) antidumping duty administrative review of extruded rubber thread from Malaysia. No party has appealed this determination. As there is now a final and conclusive court decision in this action, we are amending our final results.

EFFECTIVE DATE: May 3, 2000.

FOR FURTHER INFORMATION CONTACT: Ron Trentham or Tom Futtner, Import Administration, International Trade Administration, U.S. Department of Commerce, 14th Street and Constitution Avenue, N.W., Washington, D.C. 20230; telephone: (202) 482-6320 and (202) 482-3814, respectively.

Applicable Statute and Regulations

Unless otherwise indicated, all citations to the statute are references to the provisions effective January 1, 1995, the effective date of the amendments made to the Tariff Act of 1930 (“the Act”) by the Uruguay Round Agreements Act (“URAA”).

SUPPLEMENTARY INFORMATION:

Background

On June 20, 1997, the Department published Extruded Rubber Thread From Malaysia, Final Results of Antidumping Duty Administrative Review, 62 FR 33588 (June 20, 1997) (“Final Results”), covering the period October 1, 1994 through September 30, 1995. Subsequent to the publication of the Department's Final Results, the respondents (Heveafil Sdn. Bhd., Rubberflex Sdn. Bhd., Rubfil Sdn. Bhd., and Filati Lastex Elastofibre (Malaysia)) appealed the Final Results to the Court.

Based on these challenges the Court remanded the Final Results. See Heveafil Sdn. Bhd., Rubberflex Sdn. Bhd., Rubfil Sdn. Bhd., and Filati Lastex Elastofibre (Malaysia) v. the United States, Slip Op. 99-69 (July 23, 1999). On remand, the Court instructed the Department to (1) repeat the verification of Rubberflex Sdn. Bhd. (“Rubberflex”); (2) correct the double-counting of general and administrative (“G&A”) and indirect selling expenses in the calculation of constructed value (“CV”) for Rubfil Sdn. Bhd. (“Rubfil”); and (3) eliminate the double-counting of marine insurance for Filati Lastex Elastrofibre (“Filati”) in the calculation of Filati's dumping margin.

As a result of settlement negotiations, Rubberflex entered into an agreement with the Department to settle the litigation and to dismiss its claim with respect to the lawsuit. On October 22, 1999, the Department filed its remand determination with the Court, addressing issues related to the remaining plaintiffs. In its determination, the Department corrected for the double-counting of G&A and indirect selling expenses in the calculation of CV for Rubfil. The Department also corrected for the double-counting of marine insurance in Filati's margin calculation program.

As noted above, on November 24, 1999, the Court affirmed the Department's remand results and no appeal was filed. As there is now a final and conclusive court decision in this action, we are amending our Final Results of review in this matter and we will instruct the U.S. Customs Service (“Customs”) to liquidate entries subject to this review in accordance with the remand results. Because the Department has published subsequent administrative reviews covering later time periods, future cash deposit rates will be governed by the most recently completed administrative review, according to the Department's normal procedures. See Extruded Rubber Thread From Malaysia; Final Results of Antidumping Duty Administrative Review, 65 FR 6140 (February 8, 2000).

Amended Final Results

Pursuant to section 516A(e) of the Act, we are now amending the Final Results. As a result of our recalculation of the margins, the final weighted-average margins for Rubfil and Filati have changed. Further, as a result of the settlement agreement, the final weighed-average margin for Rubberflex has changed. The final weighted-average margins for the above period of review are as follows:

Producer/manufacturer/exporter | Weighted-average margin (percent)
Rubfil Sdn. Bhd | 36.14
Filati Lastex Elastofibre (Malyasia) | 7.74
Rubberflex | 10.00

The Department will determine, and Customs shall assess, antidumping duties on all appropriate entries. The Department will issue appraisement instructions to Customs after publication of this amended final results of review.

This determination is issued and published in accordance with sections 751(a)(1) and 777(i)(1) of the Act.

Dated: April 24, 2000.
Troy H. Cribb,
Acting Assistant Secretary for Import Administration.

[FR Doc. 00-10928 Filed 5-2-00; 8:45 am]

BILLING CODE 3510-DS-P